COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products and a service from the Procurement List previously furnished by such agencies.

DATES: Effective Date: 8/1/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION:

Additions

On 4/15/2011 (76 FR 21336-21337); 4/29/2011 (76 FR 23998); and 5/6/2011 (76 FR 26279), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 6545-00-NIB-0105—Kit, Shelter-In-Place.

NPA: Bosma Industries for the Blind, Inc., Indianapolis, IN.

Contracting Activity: Department of Veterans Affairs, NAC, Hines, IL.

Coverage: C-List for 100% of the requirement of the Department of Veterans Affairs as aggregated by the Department of Veterans Affairs National Acquisition Center, Hines, IL.

NSN: M.R. 860—Strainer, Collapsible.

NPA: Industries for the Blind, Inc., West Allis, WI.

Contracting Activity: Military Resale—Defense Commissary Agency, Fort Lee, VA.

Coverage: C-List for the requirements of military commissaries and exchanges as aggregated by the Defense Commissary Agency.

NSN: 9915-00-NSH-0002—Army Retiring Soldiers Kit.

NPA: South Texas Housing and Community Development Corp, Inc., San Antonio, TX.

Contracting Activity: Department of the Army, Fort Sam Houston Contract Center, TX.

Coverage: C-List for 100% of the requirement of the Department of the Army, as aggregated by the Fort Sam Houston Contract Center, Fort Sam Houston, TX.

Services

Service Type/Location: Mail Service, CDC Transshipping Facility, 3719 North Peachtree Rd., Atlanta, GA.

NPA: Tommy Nobis Enterprises, Inc., Marietta, GA.

Contracting Activity: Dept of Health and Human Services/Centers for Disease Control, Atlanta, GA.

Service Type/Location: Dining Facility Attendant and Cook Support Service, Army 7th Special Forces Group, Building 4570, Eglin AFB, FL.

NPA: Lakeview Center, Inc., Pensacola, FL.

Contracting Activity: Dept of the Army, W6QM FT Bragg Contr Ctr, Fort Bragg, NC.

Deletions

On 4/15/2011 (76 FR 21336-21337), the Committee for Purchase From People Who Are Blind or Severely Disabled published notice of proposed deletions from the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Scarf, Branch of Service

NSN: 8455-00-405-2294—Scarf, Branch of Service.

NPA: Lions Industries for the Blind, Inc., Kinston, NC.

Contracting Activity: Defense Logistics Agency Troop Support, Philadelphia, PA.

NSN: 7510-01-545-3774—Calendar Pad, Type 1, 2010.

NPA: The Easter Seal Society of Western Pennsylvania, Pittsburgh, PA.

Contracting Activity: General Services Administration, New York, NY.

NSN: 8410-01-377-9373—Slacks, Woman's, Navy—Tropical Blue.

NPAs: Knox County Association for Retarded Citizens, Inc., Vincennes, IN. VGS, Inc., Cleveland, OH.

Contracting Activity: Defense Logistics Agency Troop Support, Philadelphia, PA.

Service

Service Type/Location: Administrative/General Support Services, GSA: Various Field Offices, GSA Richmond Field Office, Richmond, VA.

NPA: Goodwill Services, Inc, Richmond, VA.

Contracting Activity: GSA/PBS/R03 Richmond FO, Richmond, VA.

Barry S. Lineback,
Director, Business Operations.

[FR Doc. 2011-16577 Filed 6-30-11; 8:45 am]

BILLING CODE 6353-01-P